DEPARTMENT OF ENERGY

Office of Energy Efficiency and Renewable Energy

10 CFR Part 430 and 431

[Docket No. EE-2006-STD-0127]

RIN 1904-AB49

Energy Conservation Standards for Residential Electric and Gas Ranges and Microwave Ovens, Dishwashers, Dehumidifiers, and Commercial Clothes Washers: Public Meeting and Availability of the Framework Document

AGENCY: Office of Energy Efficiency and Renewable Energy, Department of Energy.

ACTION: Notice of public meeting and availability of the Framework Document.

SUMMARY: The Department of Energy (DOE or Department) will hold an informal public meeting to discuss and receive comments on issues it will address in this rulemaking proceeding. The Department is also initiating the data collection process for establishing energy conservation standards for residential electric and gas ranges and ovens and microwave ovens, dishwashers, dehumidifiers, and commercial clothes washers. The Department also encourages written comments on these subjects. In addition, this effort is the result of the Energy Policy Act of 2005 (EPACT 2005) directive to publish a final rule to determine whether the standards established by EPACT 2005 should be amended no later than October 1, 2009, for dehumidifiers, and no later than January 1, 2010, for commercial clothes washers. To inform stakeholders and facilitate this process, DOE has prepared a Framework Document, a draft of which is available at: http://www.eere.energy.gov/buildings/appliance_standards/.

DATES: The Department will hold a public meeting on Thursday, April 27, 2006, from 9 a.m. to 5 p.m. in Washington, DC. Any person requesting to speak at the public meeting should submit a request to speak before 4 p.m, Thursday, April 13, 2006. The Department must receive a signed original and an electronic copy of statements to be given at the public meeting before 4 p.m., Thursday, April 13, 2006. Written comments are welcome, especially following the public meeting, and should be submitted by Thursday, May 11, 2006.

ADDRESSES: The public meeting will be held at the U.S. Department of Energy, Forrestal Building, Room GE-086 (Large Auditorium), 1000 Independence Avenue, SW., Washington, DC 20585-0121. (Please note that foreign nationals participating in the public meeting are subject to advance security screening procedures. If a foreign national wishes to participate in the workshop, please inform DOE of this fact as soon as possible by contacting Ms. Brenda Edwards-Jones at (202) 586-2945 so that the necessary procedures can be completed.)

Stakeholders may submit comments, identified by docket number EE-2006-STD-0127 and/or RIN number 1904-AB49, by any of the following methods:

• Federal eRulemaking Portal: http://www.regulations.gov. Follow the instructions for submitting comments.

• E-mail: home_appliance.rulemaking@ee.doe.gov. Include EE-2006-STD-0127 and/or RIN 1904-AB49 in the subject line of the message.

• Mail: Ms. Brenda Edwards-Jones, U.S. Department of Energy, Building Technologies Program, Mailstop EE-2J, Framework Document for Home Appliance Products, EE-2006-STD-0127 and/or RIN 1904-AB49, 1000 Independence Avenue, SW., Washington, DC 20585-0121. Telephone: (202) 586-2945. Please submit one signed paper original.

• Hand Delivery/Courier: Ms. Brenda Edwards-Jones, U.S. Department of Energy, Building Technologies Program, Room 1J-018, 1000 Independence Avenue, SW., Washington, DC 20585-0121.

Instructions: All submissions received must include the agency name and docket number or Regulatory Information Number (RIN) for this rulemaking.

Docket: For access to the docket to read background documents, a copy of the transcript of the public meeting, or comments received, go to the U.S. Department of Energy, Forrestal Building, Room 1J-018 (Resource Room of the Building Technologies Program), 1000 Independence Avenue, SW., Washington, DC 20585-0121, (202) 586-9127, between 9 a.m. and 4 p.m., Monday through Friday, except Federal holidays. Please call Ms. Brenda Edwards-Jones at the above telephone number for additional information regarding visiting the Resource Room. Please note that the Department's Freedom of Information Reading Room (formerly Room 1E-190 at the Forrestal Building) is no longer housing rulemaking materials.

FOR FURTHER INFORMATION CONTACT: Bryan Berringer, U.S. Department of Energy, Office of Energy Efficiency and Renewable Energy, Building Technologies, EE-2J, 1000 Independence Avenue, SW., Washington, DC 20585-0121, (202) 586-0371. E-mail: bryan.berringer@ee.doe.gov. Thomas DePriest, U.S. Department of Energy, Office of General Counsel, GC-72, 1000 Independence Avenue, SW., Washington, DC 20585-0121, (202) 586-9507. E-mail: Thomas.DePriest@hq.doe.gov.

SUPPLEMENTARY INFORMATION: Part B of Title III of the Energy Policy and Conservation Act of 1975 (EPCA), 42 U.S.C. 6291 et seq., established an energy conservation program for major household appliances, which includes residential electric and gas ranges and ovens and microwave ovens, and dishwashers. This program authorizes the Department to establish technologically feasible, economically justified energy-efficiency regulations for certain consumer products for which such regulations would incur substantial national energy saving, and for which both natural market forces and voluntary labeling programs have been and/or are expected to be ineffective in promoting energy efficiency. The National Energy Conservation Policy Act of 1978 (NECPA) amended EPCA to add Part C of Title III, 42 U.S.C. 6311 et seq., which established an energy-conservation program for certain industrial equipment. Amendments to EPCA in the Energy Conservation Act of 1987 (NAECA) established prescriptive energy conservation standards for dishwashers and cooking products, as well as requirements for determining whether these standards should be amended. (42 U.S.C. 6295(g) and (h)) The Energy Policy Act of 1992 (EPACT 1992), Public Law 102-486, included amendments to EPCA that expanded Title III to include certain commercial equipment. The recent Energy Policy Act of 2005 (EPACT 2005), Public Law 109-58, updated several existing standards and test procedures, prescribed definitions, standards, and test procedures for certain new consumer products and commercial equipment, and mandated that the Secretary of Energy (the Secretary) commence rulemakings to develop test procedures and standards for certain other new consumer products and commercial equipment, including dehumidifiers and commercial clothes washers.

The prescriptive standards for dishwashers in EPCA, as amended, require that they be equipped with an option to dry without heat, and EPCA further requires that DOE conduct two cycles of rulemakings to determine if more stringent standards are justified. (42 U.S.C. 6295(g)(1), (4)) On May 14, 1991, DOE issued a final rule establishing the first set of performance standards for dishwashers; the new standards became effective on May 14, 1994. 56 FR 22250. The Department initiated a second standards rulemaking for dishwashers by issuing an advance notice of proposed rulemaking (ANOPR) on November 14, 1994. 59 FR 56423. As a result of the priority-setting process outlined in the July 15, 1996, Procedures for Consideration of New or Revised Energy Conservation Standards for Consumer Products (the “Process Rule”), 61 FR 36974, 10 CFR part 430, Subpart C, Appendix A, DOE suspended the standards rulemaking for dishwashers.

The prescriptive standards for gas cooking products in EPCA, as amended, require units with an electrical supply cord not to be equipped with constant burning pilots. EPCA, as amended, also directs DOE to conduct two cycles of rulemakings to determine if more stringent standards are justified. (42 U.S.C. 6295(h)) The Department initially analyzed standards for cooking products as part of an eight-product standards rulemaking. It issued a notice of proposed rulemaking (NOPR) on March 4, 1994, proposing performance standards for gas and electric residential cooking products, including microwave ovens. 59 FR 10464. In accordance with the 1996 Process Rule, DOE refined its standards analysis of cooking products. With regard to gas cooking products, DOE focused on the economic justification for eliminating standing pilots. Partially due to the difficulty of conclusively demonstrating that elimination of standing pilots was economically justified, DOE issued a final rule on September 8, 1998, that covered only electric cooking products, including microwave ovens. 63 FR 48038. The final rule found that no standards were feasible for electric cooking products. The Department never completed its standards rulemaking for gas cooking products.

Commercial clothes washers and dehumidifiers are new products covered by the EPACT 2005 legislation. Commercial clothes washers are defined in EPACT 2005 as soft-mount, front-loading or soft-mount, top-loading washers that have a clothes container compartment that is not more than 3.5 cubic feet for horizontal-axis clothes washers and not more than 4.0 cubic feet for vertical-axis clothes washers. (EPACT 2005, section 136(a)(4)) EPACT 2005 also defines commercial clothes washers as products designed for applications in which the occupants of more than one household will be using the clothes washer, such as multi-family housing common areas, coin laundries, or other commercial applications. (Id.) EPACT 2005 established standards for commercial clothes washers, which will become effective on January 1, 2007. (EPACT 2005, section 136(e)) EPACT 2005 also requires that DOE issue a final rule by January 1, 2010, to determine whether these standards should be amended. (Id.)

In EPACT 2005, dehumidifiers are defined as self-contained, electrically operated, and mechanically encased assemblies consisting of: (1) A refrigerated surface (evaporator) that condenses moisture from the atmosphere; (2) a refrigerating system, including an electric motor; (3) an air-circulating fan; and (4) a means for collecting or disposing of the condensate. (EPACT 2005, section 135(a)(3)) EPACT 2005 established standards for dehumidifiers that will become effective on October 1, 2007. (Section 135(c)(4)) EPACT 2005 also requires that DOE issue a final rule by October 1, 2009, to determine whether these standards should be amended. (Id.) If amended standards are justified, EPACT 2005 requires them to become effective by October 1, 2012. (Id.) In the event that DOE fails to publish a final rule, EPACT 2005 specifies a new set of amended standards with an effective date of October 1, 2012. (Id.)

To begin the required rulemaking process, the Department prepared the Framework Document to explain the issues, analyses, and process it is considering for the development of energy efficiency standards for residential electric and gas ranges and ovens and microwave ovens, dishwashers, dehumidifiers, and commercial clothes washers. The focus of the public meeting will be to discuss the analyses and issues contained in various sections of the Framework Document. For each item listed, the Department will make a presentation with discussion to follow. In addition, the Department will also make a brief presentation on the rulemaking process for these products. The Department encourages those who wish to participate in the public meeting to obtain the Framework Document and be prepared to discuss its contents. A copy of the draft Framework Document is available at: http://www.eere.energy.gov/buildings/appliance_standards/. However, public meeting participants need not limit their discussions to the topics in the Framework Document. The Department is also interested in receiving views concerning other relevant issues that participants believe would affect energy conservation standards for these products. The Department also welcomes all interested parties, whether or not they participate in the public meeting, to submit in writing by Thursday, May 11, 2006, comments and information on the matters addressed in the Framework Document and on other matters relevant to consideration of standards for residential electric and gas ranges and ovens and microwave ovens, dishwashers, dehumidifiers, and commercial clothes washers.

The public meeting will be conducted in an informal, conference style. A court reporter will be present to record the minutes of the meeting. There shall be no discussion of proprietary information, costs or prices, market shares, or other commercial matters regulated by the U.S. antitrust laws.

After the public meeting and the expiration of the period for submitting written statements, the Department will begin collecting data, conducting the analyses as discussed at the public meeting, and reviewing the comments received.

Anyone who would like to participate in the public meeting, receive meeting materials, or be added to the DOE mailing list to receive future notices and information regarding residential electric and gas ranges and ovens and microwave ovens, dishwashers, dehumidifiers, and commercial clothes washers, should contact Ms. Brenda Edwards-Jones at (202) 586-2945.

Issued in Washington, DC, on March 21, 2006.
Douglas L. Faulkner,
Acting Assistant Secretary, Energy Efficiency and Renewable Energy.

[FR Doc. E6-4390 Filed 3-24-06; 8:45 am]

BILLING CODE 6450-01-P